COMMITTEE FOR PURCHASE FROM PEOPLE WHO ARE BLIND OR SEVERELY DISABLED

Procurement List: Additions and Deletions

AGENCY: Committee for Purchase From People Who Are Blind or Severely Disabled.

ACTION: Additions to and Deletions From Procurement List.

SUMMARY: This action adds to the Procurement List product and services to be furnished by nonprofit agencies employing persons who are blind or have other severe disabilities, and deletes from the Procurement List products and services previously furnished by such agencies.

DATES: Effective Date: August 24, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 5/29/2009 (74 FR 25717-25718), the Committee for Purchase From People Who Are Blind or Severely Disabled published notice of proposed additions to the Procurement List.

After consideration of the material presented to it concerning capability of qualified nonprofit agencies to provide the product and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7520-00-NIB-1808—File, Wall Hanging, Clear.

Coverage: B-List for the broad Government requirement as aggregated by the General Services Administration.

NSN: 7520-00-NIB-1809—File, Wall Hanging, Smoke

NSN: 7520-00-NIB-1810—File, Wall Hanging, Clear

NSN: 7520-00-NIB-1811—File, Wall Hanging, Smoke

Coverage: A-List for the total Government requirement as aggregated by the General Services Administration.

NPA: Dallas Lighthouse for the Blind, Inc., Dallas, TX.

Contracting Activity: Federal Acquisition Service, GSA/FSS OFC SUP CTR—Paper Products, New York, NY.

Services

Service Type/Location: Custodial Services, USDA—Forest Service—Midewin National Tallgrass Prairie, 30239 South State Route 53, Wilmington, IL.

NPA: United Cerebral Palsy of the Land of Lincoln, Springfield, IL.

Contracting Activity: Forest Service, Midewin National Tallgrass Prairie, Wilmington, IL.

Service Type/Location: Grounds Maintenance Service, Grounds Maintenance, Caribbean National Forest, Rio Grand, PR, El Yunque, Rio Grand, PR.

NPA: The Corporate Source, Inc., New York, NY.

Contracting Activity: Forest Service, Southern Regional Office, Atlanta, GA.

Deletions

On 5/8/2009 (74 FR 21661-21662) and 6/5/2009 (74 FR 27022-27023), the Committee for Purchase From People Who Are Blind or Severely Disabled published notices of proposed deletions from the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Pad, Floor Polishing Machine

NSN: 7910-01-513-2664—13″ Beige Buff

NSN: 7910-01-513-2668—14″ Beige Buff

NSN: 7910-01-513-2672—15″ Beige Buff

NSN: 7910-01-513-2674—16″ Beige Buff

NSN: 7910-01-513-4303—17″ Beige Buff

NSN: 7910-01-513-2675—18″ Beige Buff

NSN: 7910-01-513-2680—19″ Beige Buff

NSN: 7910-01-513-2685—20″ Beige Buff

NSN: 7910-01-513-2677—21″ Beige Buff

NSN: 7910-01-513-2662—22″ Beige Buff

NSN: 7910-01-513-2661—27″ Beige Buff

NPA: Beacon Lighthouse, Inc., Wichita Falls, TX

Contracting Activity: NAC, Veteran Affairs, Hines, IL

NSN: 7530-01-450-5409—Appointment Book Refill, 2005

NSN: 7530-01-517-5964—DAYMAX System, Desert, Camouflage Planner 2005

NSN: 7530-01-517-5964L—DAYMAX System, Desert, Camouflage Planner 2005

NSN: 7530-01-502-6815L—DAYMAX System, DOD Planner w/Logo, 2005

NSN: 7530-01-502-6815—DAYMAX System, DOD Planner, 2005

NSN: 7530-01-502-6812—DAYMAX System, GLE, 2005, Black

NSN: 7530-01-502-6812L—DAYMAX System, GLE, 2005, Black w/Logo

NSN: 7530-01-502-6813—DAYMAX System, GLE, 2005, Burgundy

NSN: 7530-01-502-6813L—DAYMAX System, GLE, 2005, Burgundy w/Logo

NSN: 7530-01-502-6814—DAYMAX System, GLE, 2005, Navy

NSN: 7530-01-502-6814L—DAYMAX System, GLE, 2005, Navy w/Logo

NSN: 7530-01-502-6810—DAYMAX System, IE, 2005, Black

NSN: 7530-01-502-6810L—DAYMAX System, IE, 2005, Black w/Logo

NSN: 7530-01-502-6811—DAYMAX System, IE, 2005, Burgundy

NSN: 7530-01-502-6811L—DAYMAX System, IE, 2005, Burgundy w/Logo

NSN: 7530-01-502-6806—DAYMAX System, IE, 2005, Navy

NSN: 7530-01-502-6806L—DAYMAX System, IE, 2005, Navy w/Logo

NSN: 7530-01-502-6822—DAYMAX System, JR Version, 2005, Black

NSN: 7530-01-502-6822L—DAYMAX System, JR Version, 2005, Black w/Logo

NSN: 7530-01-502-6821—DAYMAX System, JR Version, 2005, Burgundy

NSN: 7530-01-502-6823—DAYMAX System, JR Version, 2005, Navy

NSN: 7530-01-502-6823L—DAYMAX System, JR Version, 2005, Navy w/Logo

NSN: 7530-01-502-6809—DAYMAX System, LE, 2005, Black

NSN: 7530-01-502-6809L—DAYMAX System, LE, 2005, Black w/Logo

NSN: 7530-01-502-6807—DAYMAX System, LE, 2005, Burgundy

NSN: 7530-01-502-6807L—DAYMAX System, LE, 2005, Burgundy w/Logo

NSN: 7530-01-502-6808—DAYMAX System, LE, 2005, Navy

NSN: 7530-01-502-6808L—DAYMAX System, LE, 2005, Navy w/Logo

NSN: 7530-01-502-6816—DAYMAX System, Woodland Camouflage Planner 2005

NSN: 7510-01-502-7963—DAYMAX, GLE Day at a View, 2005, 7-hole

NSN: 7510-01-502-6819—DAYMAX, GLE Month at a View, 2005, 7-hole

NSN: 7510-01-502-6824—DAYMAX, GLE Week at a View, 2005, 7-hole

NSN: 7510-01-502-6820—DAYMAX, IE/LE Day at a View, 2005, 3-hole

NSN: 7510-01-502-6817—DAYMAX, IE/LE Month at a View, 2005, 3-hole

NSN: 7510-01-502-6818—DAYMAX, IE/LE Week at a View, 2005, 3-hole

NSN: 7510-01-502-7964—DAYMAX, JR, Day at a View, 2005, 6-hole

NSN: 7510-01-502-6828—DAYMAX, Tabbed Monthly, 2005, 3-hole

NSN: 7510-01-502-6829—DAYMAX, Tabbed Monthly, 2005, 7-hole

NPA: The Easter Seal Society of Western Pennsylvania, Pittsburgh, PA

Contracting Activity: GSA/FSS OFC SUP CTR—Paper Products, New York, NY

Service

Service Type/Location: Janitorial/Custodial, Fort Bliss: Main Store Building 1735, AAFES, Main Store—Building 1735, Fort Bliss, TX.

NPA: Goodwill Industries of El Paso, El Paso, TX.

Contracting Activity: Dept of the Army, XR W40M Natl Region Contract OFC, Washington, DC.

Barry S. Lineback,
Director, Business Operations.

[FR Doc. E9-17627 Filed 7-23-09; 8:45 am]

BILLING CODE 6353-01-P